DEPARTMENT OF EDUCATION

Final Priority and Requirements—Training of Interpreters for Individuals Who Are Deaf or Hard of Hearing and Individuals Who Are DeafBlind Program—Correction

AGENCY: Office of Special Education and Rehabilitative Services, Department of Education.

ACTION: Final priority and requirements; correction.

SUMMARY: On July 26, 2021, the Department of Education (Department) published in the Federal Register a notice of final priority and requirements (NFP) for new awards for fiscal year (FY) 2021 for the Training of Interpreters for Individuals Who Are Deaf or Hard of Hearing and Individuals Who Are DeafBlind program, Assistance Listing Number 84.160D. We are correcting one error in the Application Requirements. All other information in the NFP remains the same.

DATES: This correction is applicable August 19, 2021.

FOR FURTHER INFORMATION CONTACT: Kristen Rhinehart-Fernandez, U.S. Department of Education, 400 Maryland Avenue SW, Room 5094, Potomac Center Plaza, Washington, DC 20212-2800. Telephone: (202) 245-6103. Email: 160D@ed.gov.

If you use a telecommunications device for the deaf (TDD) or a text telephone (TTY), call the Federal Relay Service (FRS), toll free, at 1-800-877-8339.

SUPPLEMENTARY INFORMATION: On July 26, 2021, we published the NFP in the Federal Register (86 FR 39965). In the NFP, under Application Requirements, “Quality of Project Services,” paragraph (c)(8)(i) directed applicants to paragraph (a)(2)(i), which is not included in the requirements. We are correcting the cross-reference in paragraph (c)(8)(i) to direct applicants to paragraph (a)(3) instead of (a)(2)(i). All other requirements and conditions in the NFP remain the same.

Applicants were made aware of this correction in a pre-application meeting via conference call on July 30, 2021. The correction is included in the 84.160D pre-application slide deck and pre-application meeting summary of questions and answers, both available at https://ncrtm.ed.gov/RSAGrantInfo.aspx.

Correction

In FR Doc. 2021-15915, beginning on page 39965 in the issue of July 26, 2021, make the following correction:

On page 39975, in the middle column, under Application Requirements, “Quality of Project Services,” paragraph (c)(8)(i), remove “paragraph (a)(2)(i)” and add in its place “paragraph (a)(3)”.

Program Authority: 29 U.S.C. 709(c) and 772(a) and (f).

Accessible Format: On request to the contact person listed under FOR FURTHER INFORMATION CONTACT, individuals with disabilities can obtain this document, the NFP, and a copy of the application in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Katherine Neas,
Acting Assistant Secretary for the Office of Special Education and Rehabilitative Services.

[FR Doc. 2021-17771 Filed 8-18-21; 8:45 am]

BILLING CODE 4000-01-P